DEPARTMENT OF TRANSPORTATION

Federal Aviation Administration

14 CFR Part 39

[Docket No. FAA-2006-25261; Directorate Identifier 2006-CE-38-AD]

RIN 2120-AA64

Airworthiness Directives; Cessna Aircraft Company Models 172R, 172S, 182S, 182T, T182T, 206H, and T206H Airplanes

AGENCY: Federal Aviation Administration (FAA), Department of Transportation (DOT).

ACTION: Notice of proposed rulemaking (NPRM).

SUMMARY: We propose to adopt a new airworthiness directive (AD) for certain Cessna Aircraft Company (Cessna) Models 172R, 172S, 182S, 182T, T182T, 206H, and T206H airplanes. This proposed AD would require you to install Modification Kit MN172-25-10B or a steel lock rod/bar on both crew seat back cylinder lock assemblies. If a steel lock rod/bar has already been installed on the crew seat back cylinder lock assembly, no further action is required. If Modification Kit MK172-25-10A has previously been installed, this proposed AD would require you to do an installation inspection and correct any discrepancies found. This proposed AD results from reports of the crew seat back cylinder lock assembly failing at the aft end and other cylinder lock assemblies found cracked. We are proposing this AD to prevent the crew seat cylinder lock assembly from bending, cracking, or failing. This failure could cause uncontrolled movement of the seat back, resulting in possible backward collapse during flight. Backward collapse of either crew seat back could result in an abrupt pitch-up if the affected crew member continues to hold on to the control yoke during this failure and could cause difficulty in exiting the airplane from an aft passenger seat after landing.

DATES: We must receive comments on this proposed AD by October 10, 2006.

ADDRESSES: Use one of the following addresses to comment on this proposed AD:

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

For service information identified in this proposed AD, contact Cessna Aircraft Company, Product Support, P.O. Box 7706, Wichita, KS 67277; telephone: (316) 517-5800; fax: (316) 942-9006.

FOR FURTHER INFORMATION CONTACT: Gary Park, Aerospace Engineer, FAA, Wichita Aircraft Certification Office, 1801 Airport Road, Mid-Continent Airport, Wichita, Kansas 67209; telephone: (316) 946-4123; facsimile: (316) 946-4107.

SUPPLEMENTARY INFORMATION:

Comments Invited

We invite you to send any written relevant data, views, or arguments regarding this proposed AD. Send your comments to an address listed under the ADDRESSES section. Include the docket number, “FAA-2006-25261; Directorate Identifier 2006-CE-38-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received reports of the crew seat back cylinder lock bending at the aft end and failing. We have also received reports of cracks found in the cylinder lock assembly.

This condition, if not corrected, could result in failure of the crew seat back cylinder lock assembly. This failure could cause uncontrolled movement of the seat back, resulting in possible backward collapse during flight. Backward collapse of either crew seat back could result in an abrupt pitch-up if the affected crew member continues to hold on to the control yoke during this failure and could cause difficulty in exiting the airplane from an aft passenger seat after landing.

Relevant Service Information

We have reviewed Cessna Single Engine Service Bulletin SB04-25-01, Revision 3, dated July 24, 2006.

This service bulletin describes procedures for installing Modification Kit MK172-25-10B on both crew seat back cylinder lock assemblies to replace the cylinder lock with a new model cylinder lock. This service bulletin also described procedures for doing an installation inspection on airplanes that have Modification Kit MK172-25-10A installed following Cessna Single Engine Service Bulletin SB04-25-01, Revision 2, dated June 5, 2006.

We have also reviewed Cessna Single Engine Service Bulletin SB04-25-02 Revision 1, dated October 17, 2005, and Revision 2, dated June 5, 2006.

These service bulletins describe procedures for installing a steel lock rod/bar on the crew seat to replace the crew seat back cylinder lock assembly.

FAA's Determination and Requirements of the Proposed AD

We are proposing this AD because we evaluated all information and determined the unsafe condition described previously is likely to exist or develop on other products of the same type design. This proposed AD would require you to install a modification kit on both crew seat back cylinder lock assemblies, which replaces the cylinder lock with a new model cylinder lock, or install a steel lock rod/bar on both crew seat back cylinder lock assemblies.

Costs of Compliance

We estimate that this proposed AD would affect 4,039 airplanes in the U.S. registry. We provide below total fleet costs for both the proposed modification and the proposed steel lock rod/bar installation; however, only one of these proposed actions would be required.

We estimate the following costs to do the proposed installation of the modification kit:

Labor cost | Parts cost for both seats | Total cost per airplane for both seats | Total cost on U.S. operators
3.5 work-hours × $80 an hour = $280 for each modification kit | $590 for each modification kit. One modification kit required for each airplane. Total parts cost for both seats would be $590 | $280 + $590 = $870. | $870 × 4,039 = $3,513,930.

We estimate the following costs to do the proposed fabrication and installation of a steel lock rod/bar:

Labor cost | Parts cost for both seats | Total cost per airplane for both seats | Total cost on U.S. operators
1.5 work-hours × $80 an hour = $120 for each crew seat. Total labor cost for both seats would be $240 | Not applicable | $240 | $240 × 4,039 = $969,360

We estimate the following costs to do the proposed installation inspection on airplanes that have Modification Kit MK172-25-10A installed:

Labor cost | Parts cost for both seats | Total cost per airplane for both seats
1 work-hour × $80 an hour = $80 for both crew seats | Not applicable | $80

We have no method of determining the number of airplanes that may have the previously installed Modification Kit MK172-25-10A.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5227) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Cessna Aircraft Company: Docket No. FAA-2006-25261; Directorate Identifier 2006-CE-38-AD.

Comments Due Date

(a) We must receive comments on this airworthiness directive (AD) action by October 10, 2006.

Affected ADs

(b) None.

Applicability

(c) This AD affects the following airplane models and serial numbers that are certificated in any category:

Model | Serial Nos.
172R | 17280001 through 17281262.
172S | 172S8001 through 172S9994.
182S | 18280001 through 18280944.
182T | 18280945 through 18281701.
T182T | T18208001 through T18208453.
206H | 20608001 through 20608250.
T206H | T20608001 through T20608570.

Unsafe Condition

(d) This AD results from reports of the crew seat back cylinder lock assembly failing at the aft end area and other cylinder lock assemblies found cracked. We are issuing this AD to prevent the crew seat cylinder lock assembly from bending, cracking, or failing. This failure could cause uncontrolled movement of the seat back, resulting in possible backward collapse during flight. Backward collapse of either crew seat back could result in an abrupt pitch-up if the affected crew member continues to hold on to the control yoke during this failure and could cause difficulty in exiting the airplane from an aft passenger seat after landing.

Compliance

(e) To address this problem, you must do the following, unless already done:

(1) Airplanes that do not have Modification Kit MK172-25-10A installed:

Action | Compliance | Procedures
For each crew seat (pilot and copilot), install Modification Kit MK172-25-10B or fabricate and install a steel lock rod/bar | For airplanes that have over 1,000 hours time-in-service (TIS) on the effective date of this AD, do the action within the next 4 months after the effective date of this AD For airplanes that have from 501 to 1,000 hours TIS on the effective date of this AD, do the action within the next 8 months after the effective date of this AD For airplanes that have from 0 to 500 hours TIS on the effective date of this AD, do the action within the next 12 months after the effective date of this AD | Follow Cessna Single Engine Service Bulletin SB04-25-01, Revision 3, dated July 24, 2006, for installing Modification Kit MK172-25-10B. Follow Cessna Single Engine Service Bulletin SB04-25-02 Revision 1, dated October 17, 2005, or Revision 2, dated June 5, 2006, for fabricating and installing a steel lock rod/bar.

(2) Airplanes that have Modification Kit MK172-25-10A installed:

Action | Compliance | Procedures
(i) For each crew seat (pilot and copilot), do an installation inspection | Within the next 30 days after the effective date of this AD | Follow Cessna Single Engine Service Bulletin SB04-25-01, Revision 3, dated July 24, 2006.
(ii) If you do not find any discrepancies during the inspection required in paragraph (e)(2)(i) of this AD, make a log book entry showing compliance with this AD and no further action is required | Before further flight after the inspection required in paragraph (e)(2)(i) of this AD | Follow Cessna Single Engine Service Bulletin SB04-25-01, Revision 3, dated July 24, 2006.
(iii) If you find discrepancies during the inspection required in paragraph (e)(2)(i) of this AD, make all necessary corrective actions | Before further flight after the inspection required in paragraph (e)(2)(i) of this AD | Follow Cessna Single Engine Service Bulletin SB04-25-01, Revision 3, dated July 24, 2006.

Note: Although not required by this AD, you may replace the steel lock rod/bar with Modification Kit MK172-25-10B.

Alternative Methods of Compliance (AMOCs)

(f) The Manager, Wichita Aircraft Certification Office, FAA, ATTN: Gary Park, Aerospace Engineer, 1801 Airport Road, Mid-Continent Airport, Wichita, Kansas 67209; telephone: (316) 946-4123; facsimile: (316) 946-4107, has the authority to approve AMOCs for this AD, if requested using the procedures found in 14 CFR 39.19.

Related Information

(g) To get copies of the service information referenced in this AD, contact Cessna Aircraft Company, Product Support, P.O. Box 7706, Wichita, KS 67277; telephone: (316) 517-5800; fax: (316) 942-9006. To view the AD docket, go to the Docket Management Facility; U.S. Department of Transportation, 400 Seventh Street, SW., Nassif Building, Room PL-401, Washington, DC, or on the Internet at http://dms.dot.gov. The docket number is Docket No. FAA-2006-25261; Directorate Identifier 2006-CE-38-AD.

Issued in Kansas City, Missouri, on August 3, 2006.
John Colomy,
Acting Manager, Small Airplane Directorate, Aircraft Certification Service.

[FR Doc. E6-12946 Filed 8-8-06; 8:45 am]

BILLING CODE 4910-13-P